DEPARTMENT OF JUSTICE

Antitrust Division

Notice Pursuant to the National Cooperative Research and Production Act of 1993—OpenIB, Inc.

Notice is hereby given that, on April 1, 2005, pursuant to section 6(a) of the National Cooperative Research and Production Act of 1993, 15 U.S.C. 4301 et seq. (“The Act”), OpenIB, Inc. (“OpenIB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: OpenIB, Inc., Hillboro, OR. The nature and scope of OpenIB's standards development activities are: (1) Supporting the creation of interoperable computer products by developing, maintaining, approving, testing, or promoting certain open-source software that may be combined into a suite or stack; (2) development and maintenance of those stacks (including related code, application programming interfaces, specifications, technical definitions, and programming guidelines); and (3) supporting the development activity of the software community.

Dorothy B. Fountain,
Deputy Director of Operations Antitrust Division.

[FR Doc. 05-8252 Filed 4-25-05; 8:45 am]

BILLING CODE 4410-11-M